DEPARTMENT OF HOMELAND SECURITY

Federal Emergency Management Agency

[Docket ID FEMA-2021-0024]

Request for Information on the National Flood Insurance Program's Floodplain Management Standards for Land Management and Use, and an Assessment of the Program's Impact on Threatened and Endangered Species and Their Habitats; Public Meeting; Extension of Comment Period

AGENCY: Federal Emergency Management Agency, Department of Homeland Security.

ACTION: Announcement of additional public meeting; extension of comment period.

SUMMARY: The Federal Emergency Management Agency (FEMA) is extending the public comment period for its request for information published October 12, 2021, and will hold an additional virtual public meeting via web conference to solicit feedback on the request for information The October request for information sought input from the public on the floodplain management standards that communities should adopt to result in safer, stronger, and more resilient communities. It also sought input on how the National Flood Insurance Program (NFIP) can better promote protection of and minimize any adverse impact to, threatened and endangered species, and their habitats.

DATES: Written comments on the request for information published at 86 FR 56713 (Oct. 12, 2021) may be submitted until 11:59 p.m. Eastern Time (ET) on Thursday, January 27, 2022.

FEMA will hold an additional public meeting on Wednesday, December 15, 2021, from 3 p.m. to 4:30 p.m. ET. Depending on the number of speakers, the meeting may end before the time indicated, following the last call for comments.

ADDRESSES: The public meeting will be held via web conference. Members of the public may register to attend the meeting online at the following link: https://www.fema.gov/event/public-comment-period-national-flood-insurance-programs-minimum-floodplain-management.

If you would like to speak at the meeting, please indicate that on the registration form. If there is time remaining in the meeting after all registered speakers have finished, FEMA will invite comments from others in attendance. Also, Spanish language interpretation services will be made available for this meeting.

Reasonable accommodations are available for people with disabilities. To request a reasonable accommodation, contact the person listed in the FOR FURTHER INFORMATION CONTACT section below as soon as possible. Last minute requests will be accepted but may not be possible to fulfill.

Written comments on the request for information must be submitted via the Federal eRulemaking Portal at https://www.regulations.gov. Search for FEMA-2021-0024-0001 and follow the instructions for submitting comments.

All written comments received, including any personal information provided, may be posted without alteration at https://www.regulations.gov. All comments on the request for information made during the meetings will be posted to the rulemaking docket on https://www.regulations.gov.

For access to the docket and to read comments received by FEMA, go to https://www.regulations.gov and search for Docket ID FEMA-2021-0024-0001.

FOR FURTHER INFORMATION CONTACT: Rachel Sears, Supervisory Emergency Management Specialist, Federal Insurance and Mitigation Administration, Federal Emergency Management Agency, fema-regulations@fema.dhs.gov, 202-646-4105.

SUPPLEMENTARY INFORMATION: On October 12, 2021, FEMA published a Request for Information (RFI) on the National Flood Insurance Program's (NFIP) Floodplain Management Standards for Land Management and Use, and an Assessment of the Program's Impact on Threatened and Endangered Species and Their Habitats.¹ That RFI asked for public input on the floodplain management standards that communities should adopt to result in safer, stronger, and more resilient communities. It also sought input on how the NFIP can better promote protection of and minimize any adverse impact to threatened and endangered species, and their habitats.

¹ 86 FR 56713.

In support of FEMA's role in setting the NFIP floodplain management standards for land management and use and the agency's desire to strengthen the NFIP's protection of threatened and endangered species and their habitat, the agency is seeking input from the public on the floodplain management standards that communities should adopt to result in safer, stronger, and more resilient communities and to promote protection of listed species and their critical habitats. Specifically, FEMA is seeking input through a series of questions in the RFI on opportunities for the agency to improve the minimum floodplain management standards for land management and use which better align the NFIP with the current understanding of flood risk and flood risk reduction approaches. See, 86 FR 56713. Current FEMA floodplain management standards for flood-prone area regulations have not been revised since they were implemented in 1976. The agency is considering revision to these regulations based on its current understanding of flood risk and flood risk reduction approaches and is now taking a thorough review of the floodplain management standards, along with prior published studies and reports, to determine how these standards can best meet FEMA and stakeholder needs.²

² See generally “National Flood Insurance Program: Evaluation Studies” found at http://www.fema.gov/flood-insurance/rules-legislation/2006-evaluation (last accessed November 4, 2021) and “Building Codes Save: A Nationwide Study of Loss Prevention” found at http://www.fema.gov/emergency-managers/risk-management/building-science/building-codes-save-study (last accessed November 4, 2021) among others.

FEMA is also re-evaluating the implementation of the NFIP under the Endangered Species Act at the national level to complete a revised Biological Evaluation ³ re-examining how NFIP actions influence land development decisions; the potential for such actions to have adverse effects on listed species and critical habitats; and to identify program changes to mitigate adverse effects to avoid jeopardy to listed species and/or critical habitats. Public feedback will help FEMA with this process.

FEMA is holding an additional public meeting and extending the comment period for an additional 45 days until January 27, 2022, to ensure all interested parties have sufficient opportunity to provide comments on FEMA programs. As the RFI seeks information regarding a series of questions, the public may wish to review the RFI in advance of the meeting. The RFI is found at 86 FR 56713. FEMA will carefully consider all relevant comments received during the meeting, and during the rest of the RFI's comment period. All comments or remarks provided on the request for information during the meeting will be recorded and posted to the rulemaking docket on https://www.regulations.gov.

The purpose of this additional public meeting is to seek feedback on the agency's request for information on the NFIP Floodplain Management Standards for Land Management and Use, and an Assessment of the Program's Impact on Threatened and Endangered Species and their Habitats published October 12, 2021. Individuals cannot apply for FEMA assistance by submitting a comment in the Federal Register or at these public meetings. If you are an individual who has been impacted by a disaster and you are seeking assistance from FEMA, please visit https://www.fema.gov/assistance/individual or call the FEMA Helpline (1-800-621-3362/TTY (800) 462-7585) to apply or receive information on a pending request.

Deanne Criswell,
Administrator, Federal Emergency Management Agency.

[FR Doc. 2021-25336 Filed 11-19-21; 8:45 am]

BILLING CODE 9111-47-P